DEPARTMENT OF TRANSPORTATION

Federal Aviation Administration

14 CFR Part 71

[Docket No. FAA-2017-0953; Airspace Docket No. 17-AEA-15]

Amendment of Class E Airspace; Massena, NY

AGENCY: Federal Aviation Administration (FAA), DOT.

ACTION: Final rule, withdrawal.

SUMMARY: This action withdraws the final rule published in the Federal Register on March 15, 2018. In that action, the FAA amended Class E surface airspace and Class E airspace extending upward from 700 feet above the surface at Massena, NY. The FAA has determined that withdrawal of the final rule is warranted since there has been a change in the date for the decommissioning of the Massena collocated VHF omnidirectional range tactical air navigation (VORTAC).

DATES: Effective 0901 UTC, April 6, 2018.

FOR FURTHER INFORMATION CONTACT: John Fornito, Operations Support Group, Eastern Service Center, Federal Aviation Administration, 1701 Columbia Avenue, College Park, Georgia 30337; telephone (404) 305-6364.

SUPPLEMENTARY INFORMATION:

History

The FAA published a final rule in the Federal Register for Docket No. FAA-2017-0953 (83 FR 11407, March 15, 2018) amending Title 14 Code of Federal Regulations (14 CFR) part 71 amending Class E Airspace at Massena International-Richards Field Airport, Massena, NY. The FAA found that the Massena collocated VORTAC navigation aid will not be decommissioned at this time. As a result, the final rule is being withdrawn.

Lists of Subjects in 14 CFR Part 71

Airspace, Incorporation by reference, Navigation (air).

The Withdrawal

In consideration of the foregoing, the final rule for Docket No. FAA-2017-0953 (83 FR 11407, March 15, 2018), FR Doc. 2018-05045, is hereby withdrawn.

Authority: 49 U.S.C. 106(f), 106(g); 40103, 40113, 40120; E.O. 10854, 24 FR 9565, 3 CFR, 1959-1963 Comp., p. 389.

Issued in College Park, Georgia, on March 29, 2018.
Geoff Lelliott,
Acting Manager, Operations Support Group, Eastern Service Center, Air Traffic Organization.

[FR Doc. 2018-06997 Filed 4-5-18; 8:45 am]

BILLING CODE 4910-13-P